FEDERAL ELECTION COMMISSION

Sunshine Act Notices

AGENCY: Federal Election Commission.

Date and Time: Thursday, December 2, 2010, at 10 a.m.

Place: 999 E Street, NW., Washington, DC (Ninth Floor).

Status: This meeting will be open to the public.

Items To Be Discussed:

Proposed Final Audit Report on Biden for President, Inc.

Proposed Final Audit Report on the Washington State Democratic Central Committee.

Proposed Final Audit Report on the Tennessee Republican Party Federal Election Account.

Proposed Final Audit Report on the Tennessee Democratic Party.

Individuals who plan to attend and require special assistance, such as sign language interpretation or other reasonable accommodations, should contact Shawn Woodhead Werth, Commission Secretary and Clerk, at (202) 694-1040, at least 72 hours prior to the hearing date.

Person To Contact For Information: Judith Ingram, Press Officer; Telephone: (202) 694-1220.

Shawn Woodhead Werth,
Secretary and Clerk of the Commission.

[FR Doc. 2010-30413 Filed 12-3-10; 8:45 am]

BILLING CODE 6715-01-M